DEPARTMENT OF STATE

[Public Notice: 3822]

Bureau of Educational and Cultural Affairs, Office of Citizen Exchanges (ECA/PE/C); 60-Day Notice of Proposed Information Collection: Evaluation of DOS-Sponsored Academic Exchange Programs

ACTION: Notice.

SUMMARY: The Department of State is seeking Office of Management and Budget (OMB) approval for the information collection described below. The purpose of this notice is to allow 60 days for public comment in the Federal Register preceding submission to OMB. This process is conducted in accordance with the Paperwork Reduction Act of 1995.

The following summarizes the information collection proposal to be submitted to OMB:

Type of Request: New collection.

Originating Office: Bureau of Educational and Cultural Affairs, Office of Academic Exchanges (ECA/A).

Title of Information Collection: Evaluation of DOS-Sponsored Academic Exchange Programs.

Frequency: Information is collected on a per exchange program or exchange project basis.

Form Number: N/A [Multiple survey questionnaires may be used for exchange programs on an on-going and per-program basis.]

Respondents: Respondents of evaluation and/or program monitoring information collections may include U.S. and foreign applicants, current grantee exchange visitor participants (J-1 visa) and alumni of the ECA/A exchange programs, program administrators, domestic grantee organizations, foreign partner organizations, domestic and foreign hosts of exchange visitor participants, and other similar types of respondents associated with ECA/A exchange programs.

Estimated Number of Respondents: 2,386.

Average Hours Per Response: 30 minutes.

Total Estimated Burden: 1,193 (2,386 total annual responses × 30 minutes).

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Public comments, or requests for additional information, regarding the collection listed in this notice should be directed to Tamara L. Martin, U.S. Department of State, Bureau of Educational and Cultural Affairs, Office of Policy and Evaluation, 301 4th Street, SW (SA-44), Room 357, Washington, DC 20547, who may be reached on (202) 619-5307.

Dated: October 15, 2001.
David Whitten,
Executive Director, Bureau of Educational and Cultural Affairs (ECA), U.S. Department of State.

[FR Doc. 01-26905 Filed 10-24-01; 8:45 am]

BILLING CODE 4710-05-P